DEPARTMENT OF JUSTICE

Notice of Lodging of Proposed Consent Decree Under the Clean Air Act

On November 17, 2015, the Department of Justice lodged a proposed Consent Decree with the United States District Court for the District of Columbia in the lawsuit entitled United States v. HollyFrontier Refining & Marketing LLC, Frontier El Dorado Refining LLC, Holly Refining & Marketing Company—Woods Cross LLC, and Navajo Refining Company, LLC Civil Action No. 1:15-cv-02024.

The United States alleges in its Complaint that HollyFrontier Refining & Marketing LLC, Frontier El Dorado Refining LLC, Holly Refining & Marketing Company—Woods Cross LLC, and Navajo Refining Company, LLC (collectively HollyFrontier) are liable for civil penalties and injunctive relief arising from alleged violations of the Clean Air Act, Section 211(h), 42 U.S.C. 7545(h), and the fuels regulations promulgated thereunder and published at 40 CFR part 80. This Complaint addresses HollyFrontier's self-reported violations of the Reid Vapor Pressure (RVP) standard for certain batches of gasoline produced at their respective refineries and introduced into commerce with a RVP in excess of the respective standard. The Complaint also addresses alleged self-reported fuel testing violations at their respective refineries.

The proposed Consent Decree resolves all claims alleged in the Complaint, provides for payment of a $1.2 million civil penalty, and requires HollyFrontier to implement mitigation projects that are anticipated to reduce emissions of volatile organic compounds, including toxics, by an estimated 96 tons over the lifetime of the Consent Decree.

The publication of this notice opens a period for public comment on the proposed Consent Decree. Comments should be addressed to the Assistant Attorney General, Environment and Natural Resources Division, Environmental Enforcement Section, and should refer to United States v. HollyFrontier Refining & Marketing LLC, Frontier El Dorado Refining LLC, Holly Refining & Marketing Company—Woods Cross LLC, and Navajo Refining Company, L.L.C., D.J. Ref. No. 90-5-2-1-1113. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $ 7.75 (25 cents per page reproduction cost) for the proposed Consent Decree without attachments, $ 8.75 with attachments, payable to the United States Treasury.

Bob Brook,
Assistant Section Chief, Environmental Enforcement Section, Environment and Natural Resources Division.

[FR Doc. 2015-30099 Filed 11-25-15; 8:45 am]

BILLING CODE 4410-15-P